DEPARTMENT OF LABOR

Employment and Training Administration

[TA-W-65,609]

Columbia Forest Products, Trumann, AR; Notice of Termination of Investigation

Pursuant to Section 221 of the Trade Act of 1974, as amended, an investigation was initiated on March 17, 2009, in response to a petition filed on behalf of workers at Columbia Forest Products, Trumann, Arkansas.

The petition in this case has been deemed invalid. In order to establish a valid petition, the petition must be signed by a union official, by a company official, by at least three workers, or by an official of the state in which the subject firm is located. This petition was signed first by only one worker, rather than the three workers required. Later it was also signed by an official of the State of Oregon who has no authority to file TAA petitions for any state other than Oregon. Consequently, the investigation has been terminated.

Signed at Washington, DC, this 27th day of March 2009.
Elliott S. Kushner,
Certifying Officer, Division of Trade Adjustment Assistance.

[FR Doc. E9-10231 Filed 5-4-09; 8:45 am]

BILLING CODE 4510-FN-P